DEPARTMENT OF COMMERCE

National Oceanic and Atmospheric Administration

[Docket No. 020814191-2191-01]

Establishment of a Joint or Cooperative Institute Within the National Oceanic and Atmospheric Administration (NOAA) Office of Oceanic and Atmospheric Research (OAR) Joint and Cooperative Institute Program

AGENCY: Office of Oceanic and Atmospheric Research; National Oceanic and Atmospheric Administration; Department of Commerce.

ACTION: Notice of Request for Letters of Intent and Guidelines for Submission of Full Proposals.

SUMMARY: NOAA invites interested institutions to submit Letters of Intent (LOI) indicating interest in establishing a Joint or Cooperative Institute within the National Oceanic and Atmospheric Administration (NOAA) Office of Oceanic and Atmospheric Research (OAR) Joint and Cooperative Institute Program. The proposed name of the Joint Institute will be the Cooperative Institute for Climate Applications and Research. The OAR Joint and Cooperative Institute Program is listed in the CFDA under number 11.432, Office of Oceanic and Atmospheric Research (OAR) Joint and Cooperative Institutes.

The Institutes represent a close link between OAR laboratories, other branches of NOAA and the external research community. NOAA collaborates on cooperative research activities and provides financial support to enhance the public benefits to be derived from these research activities. The Institutes are established based on their geographical proximity to a NOAA facility, and/or their expertise in areas related to the mission of the NOAA/OAR research laboratories.

DATES: Letters of Intent should be submitted no later than February 24, 2003. Response letters will be issued from NOAA approximately 45 days after the date of the Federal Register Announcement. Institutions will be informed of the submittal date for full proposals in the response letter.

ADDRESSES: Letters of Intent and proposals should be submitted to: Dr. Ants Leetmaa; NOAA Geophysical Fluid Dynamics Laboratory; Forrestral Campus Rt. 1; P.O. Box 308; Princeton, NJ 08452-0308.

An Application Kit can be obtained from: Mr. Michael Nelson; NOAA Grants Management Division; Silver Spring Metro Center Bldg. 2, Room 9348; Silver Spring, MD 20910.

FOR FURTHER INFORMATION CONTACT: Dr. Ants Leetmaa; NOAA Geophysical Fluid Dynamics Laboratory; Forrestral Campus Rt. 1; P.O. Box 308; Princeton, NJ 08452-0308.

SUPPLEMENTARY INFORMATION:

I. Program Authority

Authority: 49 U.S.C. 44720; 33 U.S.C. 883d; 15 U.S.C. 2907; 15 U.S.C. 2931.

II. Program Description

Funding: The base funding for the Institute is expected to be $100,000 per year. However, funding is contingent upon availability of funds and is at the sole discretion of NOAA.

The funding instrument will be a Cooperative Agreement based on the envisioned substantial involvement of NOAA scientists in projects undertaken by the Institute. NOAA collaborates on cooperative research activities and provides financial support to enhance the public benefits to be derived from these research activities. NOAA envisions a sharing of expertise between GFDL and the proposed Institute in the areas of: earth system modeling, modern and paleoclimatic observations, and climate variability and change applications research. Funding for non-U.S. institutions and contractual arrangements for services and products for delivery to NOAA are not available under this announcement. The award will have an initial base term of five years. An OAR-sponsored, independent panel will conduct a review of the Institute during the fourth year of the five year term. The Panel's findings and recommendations will serve as the basis for renewal of the Institute for an additional five years.

Program Priorities: The Institute will be affiliated with the Geophysical Fluid Dynamics Laboratory (GFDL) located in Princeton, New Jersey. The Institute will align itself with the following GFDL research priorities:

a. Earth System modeling: Including, but not limited to, the development of dynamical models of the global climate system, and the production of forecasts of the long-term variability of the climate.

b. Modern and paleoclimatic observations: including but not limited to standard hydrographic observations and the construction and analysis of new proxies (e.g. geochemical and isotopic tracers in deep-sea sediments, aquifers, tree rings and ice cores) for studies of climate variability and change, including abrupt climate changes.

c. Climate variability and change applications research: including but not limited to the study of communication between forecasters and users of forecasts; the application of climate variability and change information to decision making in fields such as water resources, agriculture, human health, and policy making; and institutional mechanisms for responding to climate variability and change information.

The Institute is meant to be an integral component in a coordinated research effort to produce the best possible forecasts of climate variability and change and to aid in the development of forecast guidance products that are socially and economically useful to decision makers. The Institute will promote research efforts designed to (1) develop coupled models of the global atmosphere, ocean, and land surface to serve as a basis for improved climate variability and change simulations and forecasts, (2) produce and analyze modern and paleoclimatic data that will be required for the verification of the simulations and forecasts, and (3) explore and develop methods that will facilitate the effective dissemination of the forecasts to decision makers.

III. Eligibility

Extramural eligibility is limited to U.S. institutions. Universities, non-profit organizations, for-profit organizations, State and local governments, and Indian Tribes, are included among entities eligible for funding under this announcement.

IV. Evaluation Criteria

Consideration for financial assistance will be given to those proposals that address the Program Priorities listed above and meets the following evaluation criteria. Equal weight is assigned to each of the criteria.

a. Scientific Merit: Intrinsic scientific value of the proposed research.

b. Program Relevance: Applicability to the OAR Joint and Cooperative Institute Program as described in Section II, Program Description.

V. Submission Requirements

The guidelines for proposal preparation provided below are mandatory. Failure to heed these guidelines will result in proposals being returned without review.

a. Letters of Intent: (1) Letters of Intent (LOI) are required prior to submission of a full proposal. (2) The LOI should be no more than ten pages in length and should include the name and institution of the principal investigator. (3) The LOI should provide a concise description of the proposed work. (4) The LOI should also provide a detailed description of the resources and capabilities of the host institution, specifically scientific expertise, specialized facilities, ongoing research activities, and educational and training programs. (5) Evaluation will be by OAR program management, according to the evaluation criteria for full proposals described above. (6) Institutions with an LOI deemed unresponsive will not be encouraged to submit full proposals, however they will not be precluded from submitting a full proposal.

b. Full Proposals: All proposals should include the following elements:

(1) Signed title page: The title page should be signed by the Principal Investigator (PI) and the institutional representative. The PI and institutional representative should be identified by full name, title, organization, telephone number, and address.

(2) Abstract: A one page abstract must be included and should contain a brief summary of the work to be completed. The abstract should appear on a separate page, headed with the proposal title, institution(s) investigators(s) , total proposed cost and budget period.

(3) Statements of work: All proposals should provide detailed five-year plans for climate variability and change modeling and prediction research, modern and paleoclimatic observations, and climate forecast applications which build upon the program outlined in the LOI. The following areas must be addressed in the proposal: Proposed mechanisms for the development and implementation of climate model improvements; creation and maintenance of a modern and paleoclimatic data base; strategy for generating experimental forecasts guidance products and their effective dissemination to decision makers. The proposed work should be described, including identification of the problems, scientific objectives, proposed methodology, and relevance to the program priorities listed above. Factors, such as readiness of needed infrastructure, ease of interaction with scientists at GFDL, amount and type of NOAA support presently received, benefits of the proposed work to the general public, the scientific community, and decision makers, should be described. Results from related projects previously and presently supported by NOAA should be included.

(4) Budget: Applicants must submit a budget using the Standard Form 424a(4-92), Budget Information—Non-Construction Programs. The form is included in the standard NOAA application kit.

(5) Vita: An abbreviated Curriculum Vita for the PI should be included. Reference lists should be limited to all publications in the last three years with up to five other relevant papers.

(6) Current and pending Federal support: Each investigator should submit a list that includes project title, supporting agency with grant number, investigator months, dollar value and duration. Requested values should be listed for pending federal support.

VI. Selection Procedures

All proposals will be evaluated in accordance with the above evaluation criteria by an independent peer review panel consisting of both NOAA and non-NOAA Federal experts. The panel will review and discuss each proposal and, based on the above evaluation criteria, make a consensus recommendation of the most meritorious and relevant proposal to the Selecting Official.

The Selecting Official may either accept the recommendation or select another proposal based on the following program policy factor: geographic diversity within the existing Joint Institute program. The selected proposal will be forwarded to the Grants Officer for action and the successful applicant notified.

VII. Other Requirements

(1) Applications under this program are not subject to Executive Order 12372, “Intergovernmental Review of Federal Programs.”

(2) In accordance with Federal statutes and regulations, no person on grounds of race, color, age, sex, national origin, or disability shall be excluded from participation in, denied benefits of, or be subjected to discrimination under any program or activity receiving financial assistance. The NOAA Office of Oceanic and Atmospheric Research does not have direct Telephone Device for the Deaf (TDD) capabilities, but can be reached through the State of Maryland-supplied TDD contact number, 800-735-2258, between the hours of 8 a.m.-4:30 p.m.

(3) The Department of Commerce Pre-Award Notification of Requirements for Grants and Cooperative Agreements contained in the Federal Register Notice of October 1, 2001, (66 FR 49917), as amended by the Federal Register notice published on October 30, 2002 (67 FR 66109), is applicable to this solicitation.

VIII. Classification

This notice has been determined to be not significant for purposes of Executive Order 12866. This notice contains collection-of-information requirements subject to the Paperwork Reduction Act. The use of Standard Forms 424, 424A, and SF-LLL has been approved by OMB under the respective control numbers 0348-0043, 0348-0044, and 0348-0046. Notwithstanding any other provision of law, no person is required to respond to, nor shall any person be subject to a penalty for failure to comply with, a collection of information subject to the Paperwork Reduction Act, unless that collection displays a currently valid OMB control number.

It has been determined that this notice does not contain policies with Federalism implications as that term is defined in Executive Order 13132. Because notice and comment are not required under 5 U.S.C. 553, or any other law, for this notice relating to public property, loans, grants benefits or contracts (5 U.S.C. 553(a)), a Regulatory Flexibility Analysis is not required and has not been prepared for this notice, 5 U.S.C. 601 et seq.

Dated: January 15, 2003.
Louisa Koch,
Deputy Assistant Administrator, Office of Oceanic and Atmospheric Research, National Oceanic and Atmospheric Administration.

[FR Doc. 03-1643 Filed 1-23-03; 8:45 am]

BILLING CODE 3510-KB-P